DEPARTMENT OF ENERGY

Federal Energy Regulatory Commission

Combined Notice of Filings

Take notice that the Commission has received the following Natural Gas Pipeline Rate and Refund Report filings:

Filings Instituting Proceedings

Docket Numbers: RP15-260-000.

Applicants: Nautilus Pipeline Company, L.L.C.

Description: § 4(d) rate filing per 154.204: Changes to FT-2 Schedule to be effective 1/10/2015.

Filed Date: 12/11/14.

Accession Number: 20141211-5104.

Comments Due: 5 p.m. ET 12/23/14.

Docket Numbers: RP15-261-000.

Applicants: Enable Gas Transmission, LLC.

Description: § 4(d) rate filing per 154.204: RS EFT Revisions 2014 to be effective 2/1/2015.

Filed Date: 12/11/14.

Accession Number: 20141211-5131.

Comments Due: 5 p.m. ET 12/23/14.

Docket Numbers: RP15-262-000.

Applicants: American Midstream (Midla), LLC.

Description: § 4(d) rate filing per 154.204: Midla Reservation Rate Crediting Provision to be effective 2/1/2015.

Filed Date: 12/11/14.

Accession Number: 20141211-5175.

Comments Due: 5 p.m. ET 12/23/14.

Docket Numbers: RP15-258-000.

Applicants: Natural Gas Pipeline Company of America.

Description: (doc-less) Motion to Intervene of Northern Illinois Gas Company d/b/a Nicor Gas Company.

Filed Date: 12/12/14.

Accession Number: 20141212-5050.

Comments Due: 5 p.m. ET 12/24/14.

Docket Numbers: RP15-263-000.

Applicants: Guardian Pipeline, L.L.C.

Description: § 4(d) rate filing per 154.204: Reserved Capacity for Pre-Arranged Deals & ROFR Waiver to be effective 1/12/2015.

Filed Date: 12/12/14.

Accession Number: 20141212-5032.

Comments Due: 5 p.m. ET 12/24/14.

Docket Numbers: RP15-264-000.

Applicants: Viking Gas Transmission Company.

Description: § 4(d) rate filing per 154.204: Update Non-Conforming Agreements (2014) to be effective 1/12/2015.

Filed Date: 12/12/14.

Accession Number: 20141212-5072.

Comments Due: 5 p.m. ET 12/24/14.

Docket Numbers: RP15-265-000.

Applicants: El Paso Natural Gas Company, L.L.C.

Description: § 4(d) rate filing per 154.601: Non-Conforming Agreements Update (MGS) to be effective 1/1/2015.

Filed Date: 12/12/14.

Accession Number: 20141212-5138.

Comments Due: 5 p.m. ET 12/24/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP12-318-007.

Applicants: Texas Eastern Transmission, LP.

Description: Compliance filing per 154.203: Reservation Charge Credit Dec2014 Errata Filing to be effective 12/1/2014.

Filed Date: 12/11/14.

Accession Number: 20141211-5161.

Comments Due: 5 p.m. ET 12/23/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2014.
Nathaniel J. Davis, Sr.,
Deputy Secretary.

[FR Doc. 2014-29900 Filed 12-19-14; 8:45 am]

BILLING CODE 6717-01-P